DEPARTMENT OF STATE

[Public Notice 10596]

Notice of Public Meeting Shipping Coordination Committee Meeting

The Department of State will conduct an open meeting at 9 a.m. on November 27, 2018, in the CDR Raymond J. Evans Conference Center, Room 6i10-01-a, of the Douglas A. Munro Coast Guard Headquarters Building at St. Elizabeth's, 2703 Martin Luther King Jr. Avenue SE, Washington DC 20593. The primary purpose of the meeting is to prepare for the one-hundredth session of the International Maritime Organization's (IMO) Maritime Safety Committee to be held at the IMO Headquarters, United Kingdom, December 3-7, 2018.

The agenda items to be considered include:

—Adoption of the agenda; report of credentials

—Decisions of other IMO bodies

—Consideration and adoption of amendments to mandatory instruments

—Measures to enhance maritime security

—Regulatory scoping exercise for the use of Maritime Autonomous Surface Ships (MASS)

—Goal-based new ship construction standards

—Safety measures for non-SOLAS ships operating in polar waters

—Pollution prevention and response (matters emanating from the fifth session of the Sub-Committee)

—Ships systems and equipment (report of the fifth session of the Sub-Committee)

—Human element, training and watchkeeping (report of the fifth session of the Sub-Committee)

—Carriage of cargoes and containers (urgent matters emanating from the fifth session of the Sub-Committee)

—Implementation of IMO instruments (urgent matters emanating from the fifth session of the Sub-Committee)

—Capacity building for the implementation of new measures

—Piracy and armed robbery against ships

—Unsafe mixed migration by sea

—Application of the Committee's method of work

—Work programme

—Election of the Chair and Vice-Chair for 2019

—Any other business

—Consideration of the report of the Committee on its one-hundredth session

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, LCDR Staci Weist, by email at Eustacia.Y.Weist@uscg.mil, by phone at (202) 372-1376, or in writing at 2703 Martin Luther King Jr. Ave. SE, Stop 7509, Washington, DC 20593-7509 not later than November 21, 2018, 5 days prior to the meeting. Requests made after November 21, 2018 might not be able to be accommodated. Please note that due to security considerations, two valid, government issued photo identifications must be presented to gain entrance to the Coast Guard Headquarters building. It is recommended that attendees arrive no later than 30 minutes ahead of the scheduled meeting for the security screening process. The Headquarters building is accessible by taxi, public transportation, and privately owned conveyance (upon request for parking). Please contact the meeting coordinator if you plan to participate by phone.

Additional information regarding this and other public meetings may be found at https://www.dco.uscg.mil/IMO/.

Gregory J. O'Brien,
Executive Secretary, Shipping Coordinating Committee, Office of Ocean and Polar Affairs, Department of State.

[FR Doc. 2018-23865 Filed 10-31-18; 8:45 am]

BILLING CODE 4710-09-P